DEPARTMENT OF TRANSPORTATION

Federal Aviation Administration

14 CFR Part 39

[Docket No. 2000-CE-55-AD]

RIN 2120-AA64

Airworthiness Directives; Pilatus Aircraft Ltd. Models PC-12 and PC-12/45 Airplanes

AGENCY: Federal Aviation Administration, DOT.

ACTION: Notice of proposed rulemaking (NPRM).

SUMMARY: This document proposes to adopt a new airworthiness directive (AD) that would apply to certain Pilatus Aircraft Ltd. (Pilatus) Models PC-12 and PC-12/45 airplanes that are equipped with a certain windshield configuration. The proposed AD would require you to incorporate pilot's operating handbook (POH) information that would prohibit the operation of the windshield heating system in the “LIGHT” mode, and would require you to modify the windshield deicing system wiring and circuit breakers. You could remove the POH information after accomplishing the modification. The proposed AD is the result of mandatory continuing airworthiness information (MCAI) issued by the airworthiness authority for Switzerland. The actions specified by the proposed AD are intended to prevent loss of electrical power to the windshield deicing system due to operation in the “LIGHT” mode, which could result in icing of the windshield and loss of control of the airplane.

DATES: The Federal Aviation Administration (FAA) must receive any comments on this proposed rule on or before November 7, 2000.

ADDRESSES: Submit comments in triplicate to FAA, Central Region, Office of the Regional Counsel, Attention: Rules Docket No. 2000-CE-55-AD, 901 Locust, Room 506, Kansas City, Missouri 64106. Comments may be inspected at this location between 8 a.m. and 4 p.m., Monday through Friday, holidays excepted.

Service information that applies to the proposed AD may be obtained from Pilatus Aircraft Ltd., Customer Liaison Manager, CH-6371 Stans, Switzerland; telephone: +41 41 619 63 19; facsimile: +41 41 619 6224; or from Pilatus Business Aircraft Ltd., Product Support Department, 11755 Airport Way, Broomfield, Colorado 80021; telephone: (303) 465-9099; facsimile: (303) 465-6040. This information also may be examined at the Rules Docket at the address above.

FOR FURTHER INFORMATION CONTACT: Roman T. Gabrys, Aerospace Engineer, FAA, Small Airplane Directorate, 901 Locust, Room 301, Kansas City, Missouri 64106; telephone: (816) 329-4141; facsimile: (816) 329-4090.

SUPPLEMENTARY INFORMATION:

Comments Invited

How do I comment on the proposed AD? The FAA invites comments on this proposed rule. You may submit whatever written data, views, or arguments you choose. You need to include the rule's docket number and submit your comments in triplicate to the address specified under the caption ADDRESSES. The FAA will consider all comments received on or before the closing date. We may amend the proposed rule in light of comments received. Factual information that supports your ideas and suggestions is extremely helpful in evaluating the effectiveness of the proposed AD action and determining whether we need to take additional rulemaking action.

Are there any specific portions of the proposed AD I should pay attention to? The FAA specifically invites comments on the overall regulatory, economic, environmental, and energy aspects of the proposed rule that might suggest a need to modify the rule. You may examine all comments we receive before and after the closing date of the rule in the Rules Docket. We will file a report in the Rules Docket that summarizes each FAA contact with the public that concerns the substantive parts of the proposed AD.

We are re-examining the writing style we currently use in regulatory documents, in response to the Presidential memorandum of June 1, 1998. That memorandum requires federal agencies to communicate more clearly with the public. We are interested in your comments on whether the style of this document is clearer, and any other suggestions you might have to improve the clarity of FAA communications that affect you. You can get more information about the Presidential memorandum and the plain language initiative at http://www.plainlanguage.gov.

How can I be sure FAA receives my comment? If you want us to acknowledge the receipt of your comments, you must include a self-addressed, stamped postcard. On the postcard, write “Comments to Docket No. 2000-CE-55-AD.” We will date stamp and mail the postcard back to you.

Discussion

What events have caused this proposed AD? The Federal Office for Civil Aviation (FOCA), which is the airworthiness authority for Switzerland, recently notified the FAA that an unsafe condition may exist on certain Pilatus Models PC-12 and PC-12/45 airplanes. The FOCA reports that the electrical load of the left hand (LH) and right hand (RH) windshields can become too high during flight at cruise altitudes when the “LIGHT” mode is selected on the windshield deicing system. The FOCA references eight instances where prolonged operation of the windshield deicing system in the “LIGHT” mode caused this system to temporarily shut down.

The airplanes involved in the above instances were equipped with part number (P/N) 959.81.10.107 LH and P/N/ 959.81.10.108 RH windshields.

What are the consequences if the condition is not corrected? Operation of the existing design windshield deicing system in the “LIGHT” position can overload the electrical capacity of the wiring and circuit breakers. This could result in complete electrical power loss to the windshield and icing of the windshield.

Is there service information that applies to this subject? Pilatus has issued the following:

—Temporary Revision No. 21 to PC-12 Pilot's Operating Handbook, Report No. 01973-001, Section 2, Windshield Heater Operation 101-320, Issued: May 19, 2000: This document specifies operating procedures and limitations for airplanes with the affected windshield configurations; and

—Service Bulletin No. 30-006, dated May 22, 2000: This document includes procedures for modifying the windshield deicing system wiring and circuit breakers.

What action did FOCA take? The FOCA classified Pilatus Service Bulletin No. 30-006, dated May 22, 2000, as mandatory and issued Swiss AD HB 2000-393, dated September 6, 2000, in order to assure the continued airworthiness of these airplanes in Switzerland.

Was this in accordance with the bilateral airworthiness agreement? These airplane models are manufactured in Switzerland and are type certificated for operation in the United States under the provisions of section 21.29 of the Federal Aviation Regulations (14 CFR 21.29) and the applicable bilateral airworthiness agreement. Pursuant to this bilateral airworthiness agreement, the FOCA has kept FAA informed of the situation described above.

The FAA's Determination and an Explanation of the Provisions of the Proposed AD

What has FAA decided? The FAA has examined the findings of the FOCA; reviewed all available information, including the service information referenced above; and determined that:

—The unsafe condition referenced in this document exists or could develop on other Pilatus PC-12 and PC-12/45 airplanes of the same type design that incorporate this windshield configuration;

—The actions specified in the previously-referenced service information should be accomplished on the affected airplanes; and

—AD action should be taken in order to correct this unsafe condition.

What does the proposed AD require? This proposed AD would require you to incorporate POH information that would prohibit the operation of the windshield heating system in the “LIGHT” mode, and would require you to modify the windshield deicing system wiring and circuit breakers. You could remove the POH information after accomplishing the modification.

Cost Impact

How many airplanes does the proposed AD impact? We estimate that the proposed AD affects 108 airplanes in the U.S. registry.

What is the cost impact of the proposed AD on owners/operators of the affected airplanes? We estimate the following costs to accomplish the proposed modification:

Labor cost | Parts cost | Total cost per airplane | Total cost on U.S. airplane operators
18 workhours × $60 per hour = $1,080 | Pilatus will provide free-of-charge | $1,080 per airplane. | $116,640.

Compliance Time of the Proposed AD

What is the compliance time of the proposed AD? The compliance time of the proposed AD is as follows:

—Incorporation of the POH temporary revision: “Within the next 30 days after the effective date of this AD;” and

—Modification: “Within the next 12 months after the effective date of this AD.”

Why is the compliance of the proposed AD in calendar time instead of hours time-in-service (TIS)? Although loss of electrical power to the windshield deicing system due to operation in the “LIGHT” mode is unsafe during flight, the condition is not a direct result of airplane operation. The chance of this situation occurring is the same for an airplane with 10 hours TIS as it would be for an airplane with 500 hours TIS. A calendar time for compliance will assure that the unsafe condition is addressed on all airplanes in a reasonable time period.

Regulatory Impact

Does this proposed AD impact various entities? The regulations proposed herein would not have a substantial direct effect on the States, on the relationship between the national government and the States, or on the distribution of power and responsibilities among the various levels of government. Therefore, it is determined that this proposed rule would not have federalism implications under Executive Order 13132.

Does this proposed AD involve a significant rule or regulatory action? For the reasons discussed above, I certify that this proposed action (1) is not a “significant regulatory action” under Executive Order 12866; (2) is not a “significant rule” under DOT Regulatory Policies and Procedures (44 FR 11034, February 26, 1979); and (3) if promulgated, will not have a significant economic impact, positive or negative, on a substantial number of small entities under the criteria of the Regulatory Flexibility Act. A copy of the draft regulatory evaluation prepared for this action has been placed in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive (AD) to read as follows:

Pilatus Aircraft Ltd.: Docket No. 2000-CE-55-AD.

(a) What airplanes are affected by this AD? This AD affects Models PC-12 and PC-12/45 airplanes, manufacturer serial number (MSN) 101 through MSN 320, that are:

(1) certificated in any category; and

(2) equipped with part number (P/N) 959.81.10.107 LH and P/N 959.81.10.108 RH windshields (or FAA-approved equivalent part numbers).

(b) Who must comply with this AD? Anyone who wishes to operate any of the above airplanes on the U.S. Register must comply with this AD.

(c) What problem does this AD address? The actions specified by this AD are intended to prevent loss of electrical power to the windshield deicing system due to operation in the “LIGHT” mode, which could result in icing of the windshield and loss of control of the airplane.

(d) What actions must I accomplish to address this problem? To address this problem, you must accomplish the following:

Action | Compliance time | Procedures
(1) Insert Temporary Revision No. 21 to PC-12 Pilot's Operating Handbook, Report No. 01973-001, Section 2, Windshield Heater Operation 101-320, Issued May 19, 2000 | Within the next 30 days after the effective date of this AD, unless already accomplished | Anyone who holds at least a private pilot certificate, as authorized by section 43.7 of the Federal Aviation Regulations (14 CFR 43.7), may incorporate the pilot's operating handbook (POH) revision required by this AD. You must make an entry into the aircraft records that shows compliance with this AD, in accordance with section 43.9 of the Federal Aviation Regulations (14 CFR 43.9).
(2) Modify the windshield deicing system wires and circuit breakers. You may remove the POH temporary revision referenced in paragraph (d)(1) of this AD after accomplishing this modification | Within the next 12 months after the effective date of this AD, unless already accomplished | In accordance with the modification procedures in the Accomplishment Instructions section of Pilatus Service Bulletin No. 30-006, dated May 22, 2000.
(3) Do not install, on any affected airplane, P/N 959.81.10.107 LH and P/N 959.81.10.108 RH windshields (or FAA-approved equivalent part numbers), without incorporating the modification required in paragraph (d)(2) of this AD | As of the effective date of this AD | Not applicable.

Note 1: Temporary Revision No. 21 to PC-12 Pilot's Operating Handbook, Report No. 01973-001, Section 2, Windshield Heater Operation 101-320, Issued: May 19, 2000, eliminates the need for Temporary Revision No. 14 in the POH.

(e) Can I comply with this AD in any other way? You may use an alternative method of compliance or adjust the compliance time if:

(1) Your alternative method of compliance provides an equivalent level of safety; and

(2) The Manager, Small Airplane Directorate, approves your alternative. Submit your request through a FAA Principal Maintenance Inspector, who may add comments and then send it to the Manager, Small Airplane Directorate.

Note 2: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) Where can I get information about any already-approved alternative methods of compliance? Contact Roman T. Gabrys, Aerospace Engineer, FAA, Small Airplane Directorate, 1201 Walnut, suite 900, Kansas City, Missouri 64106; telephone: (816) 329-4141; facsimile: (816) 329-4090.

(g) What if I need to fly the airplane to another location to comply with this AD? The FAA can issue a special flight permit under sections 21.197 and 21.199 of the Federal Aviation Regulations (14 CFR 21.197 and 21.199) to operate your airplane to a location where you can accomplish the requirements of this AD.

(h) How do I get copies of the documents referenced in this AD? You may obtain copies of the documents referenced in this AD from Pilatus Aircraft Ltd., Customer Liaison Manager, CH-6371 Stans, Switzerland; or from Pilatus Business Aircraft Ltd., Product Support Department, 11755 Airport Way, Broomfield, Colorado 80021. You may examine these documents at FAA, Central Region, Office of the Regional Counsel, 901 Locust, Room 506, Kansas City, Missouri 64106.

Note 3: The subject of this AD is addressed in Swiss AD HB 2000-393, dated September 6, 2000.

Issued in Kansas City, Missouri, on September 26, 2000.
Michael K. Dahl,
Acting Manager, Small Airplane Directorate, Aircraft Certification Service.

[FR Doc. 00-25152 Filed 9-29-00; 8:45 am]

BILLING CODE 4910-13-P